DEPARTMENT OF HEALTH AND HUMAN SERVICES

National Institutes of Health

National Institute of Environmental Health Sciences; Notice of Meeting

Pursuant to section 1009 of the Federal Advisory Committee Act, as amended, notice is hereby given of a meeting of the Scientific Advisory Committee on Alternative Toxicological Methods (SACATM).

SACATM is a federally chartered external advisory group of scientists from the public and private sectors, including representatives of regulated industry and national animal protection organizations. SACATM advises the Interagency Coordinating Committee on the Validation of Alternative Methods (ICCVAM), the National Toxicology Program (NTP) Interagency Center for the Evaluation of Alternative Toxicological Methods (NICEATM), and the Director of the National Institute of Environmental Health Sciences (NIEHS) and NTP regarding statutorily mandated duties of ICCVAM and activities of NICEATM.

This meeting will be held as a virtual meeting and open to the public. Individuals who plan to view the virtual meeting and need special assistance, such as sign language interpretation or other reasonable accommodations, should notify the Contact Person listed below. TTY users should contact the Federal TTY Relay Service at 800-877-8339. All requests should be made at least five business days in advance of the meeting. The meeting can be accessed from the NIH Videocast at the following link: https://videocast.nih.gov/.

Name of Committee: Scientific Advisory Committee on Alternative Toxicological Methods (SACATM).

Date: September 11-12, 2025.

Registration is required to attend to view the webcast, and/or present oral comments. Written public comments will be accepted. Information about the meeting, registration, and how to submit public comments are available at https://ntp.niehs.nih.gov/go/32822.

Time: 10:00 a.m. to approximately 3:15 p.m. Eastern Time (each meeting day)

Agenda: The preliminary agenda, registration, and other meeting materials will be available at https://ntp.niehs.nih.gov/go/32822.

Address: NIEHS Research Triangle Park, NC 27709 (Virtual Meeting).

Meeting Format: Virtual Meeting.

Contact Person: Mary S. Wolfe, Ph.D., Director, Office of Policy, Review, and Outreach, Division of Translational Toxicology, National Institute of Environmental Health Science, National Institutes of Health PO Box 12233, MD A3-01 111 T.W. Alexander Dr, Research Park Triangle, NC 27709, wolfe@niehs.nih.gov.

Any member of the public interested in presenting oral comments may register at https://ntp.niehs.nih.gov/go/32822. Each public comment period allows for five oral commenters. Only one representative of an organization may be allowed to present oral comments per comment period and if accepted by the committee, presentations are limited to five minutes. Registration is on a first-come, first-served basis. If the maximum number of commenters per comment period is exceeded, individuals registering to submit an oral comment will be placed on a wait list and notified should an opening become available.

In addition, any interested person may file written comments with the committee. Information on submitting written comment is available at https://ntp.niehs.nih.gov/go/32822.

Responses to this notice are voluntary. No proprietary, classified, confidential, or sensitive information should be included in statements submitted in response to this notice or presented during the meeting. This request for input is for planning purposes only and is not a solicitation for applications or an obligation on the part of the U.S. Government to provide support for any ideas identified in response to the request. Please note that the U.S. Government will not pay for the preparation of any information submitted or for its use of that information.

Additional information about SACATM, including link to the charter, roster, and records of past meetings, can be found at https://ntp.niehs.nih.gov/go/advisory.

Dated: July 1, 2025.
Bruce A. George,
Program Analyst, Office of Federal Advisory Committee Policy.

[FR Doc. 2025-12480 Filed 7-2-25; 8:45 am]

BILLING CODE 4140-01-P